DEPARTMENT OF TRANSPORTATION

Federal Aviation Administration

14 CFR Part 71

[Docket No. FAA-2021-0479; Airspace Docket No. 21-AGL-5]

RIN 2120-AA66

Amendment of VOR Federal Airways V-170, V-175 and V-250; Establishment of Area Navigation (RNAV) Route T-400; in the vicinity of Worthington, MN

AGENCY: Federal Aviation Administration (FAA), DOT.

ACTION: Final rule.

SUMMARY: This action amends VHF Omnidirectional Range (VOR) Federal airways V-170, V-175, and V-250; and establishes RNAV T-route T-400, in the vicinity of Worthington, Minnesota. This action is necessary due to the planned decommissioning of the VOR portion of the Worthington, MN, VOR/Distance Measuring Equipment (VOR/DME), which provides navigational guidance for these Air Traffic Service (ATS) routes. The Worthington VOR is being decommissioned as part of the FAA's VOR Minimum Operational Network (VOR MON) program.

DATES: Effective date 0901 UTC, March 24, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783. FAA Order JO 7400.11F is also available for inspection at the National Archives and Records Administration (NARA). For information on the availability of FAA Order JO 7400.11F at NARA, email: fr.inspection@nara.gov or go to https://www.archives.gov/federal-register/cfr/ibr-locations.html.

FOR FURTHER INFORMATION CONTACT: Jesse Acevedo, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure to preserve the safe and efficient flow of air traffic within the National Airspace System (NAS).

History

The FAA published a noticed of proposed rulemaking (NPRM) for Docket No. FAA-2021-0479, in the Federal Register (86 FR 35233; July 2, 2021) amending VOR Federal Airways V-170, V-175, and V-250; and establishing RNAV T-route T-400, in the vicinity of Worthington, Minnesota, due to the planned decommissioning of the VOR portion of the Worthington, MN, VOR/DME. The FAA invited interested parties to participate in this rulemaking effort by submitting written comments on the proposal. There were no comments received. Subsequent to the NPRM for Docket No. FAA-2021-0479, in the Federal Register, (86 FR 35233), the FAA published a final rule for Docket No. FAA-2020-1071, in the Federal Register, (86 FR 40145, July 27, 2021) amending V-175 by removing the Macon, MO, VOR/DME from the airway segment extending between the Hallsville, MO, VORTAC and the Kirksville, MO, VORTAC. This action results in one airway segment stopping at Hallsville VORTAC and another airway segment beginning at Kirksville VORTAC. That airway amendment was effective October 7, 2021 and is included in this rule.

VOR Federal airways and RNAV T-routes are published in paragraphs 6010(a) and 6011, respectively, of FAA Order JO 7400.11F, dated August 20, 2021, and effective September 15, 2021, which are incorporated by reference in 14 CFR 71.1. The ATS routes listed in this document will be published subsequently in FAA Order JO 7400.11.

Availability and Summary of Documents for Incorporation by Reference

This action to amends FAA Order JO 7400.11F, Airspace Designations and Reporting Points, dated August 10, 2021 and effective September 15, 2021. FAA Order JO 7400.11F is publicly available as listed in the ADDRESSES section of this document. FAA Order JO 7400.11F lists Class A, B, C, D, and E airspace areas, air traffic service routes, and reporting points.

The Rule

This action amends 14 CFR part 71 by amending VOR Federal airways V-170, V-175, and V-250, and establishing RNAV T-route T-400, in the vicinity of Worthington, MN. This action is required due to the planned decommissioning of the VOR portion of the Worthington, MN, VOR/DME.

The ATS route amendment actions are described below.

V-170: V-170 extends between the Devils Lake, ND, VOR/DME and the Worthington, MN, VOR/DME; between the Rochester, MN, VOR/DME and the Salem, MI, VORTAC; and between the Slate Run, PA, VORTAC and the intersection of the Andrews, MD, VORTAC 060° radial and the Baltimore, MD, VORTAC 165° radial. The airspace within R-5802 is excluded when active. This action removes the airway segment between the Sioux Falls, SD, VORTAC and the Worthington, MN, VOR/DME. As a result, the first segment of the route extends between the Devils Lake, ND, VOR/DME and the Sioux Falls, SD, VORTAC. The second and third segments of the airway, as well as the exclusionary language, remain unchanged.

V-175: V-175 extends between the Malden, MO VORTAC and the Hallsville, MO, VORTAC; between Kirksville, MO, VORTAC and the Des Moines, IA, VORTAC; and between the Worthington, MN, VOR/DME and the Alexandria, MN, VOR/DME. This action removes the Worthington, MN, VOR/DME from the airway segment extending between the Worthington, MN, VOR/DME and the Redwood Falls, MN, VOR/DME. As a result, V-175 extends between the Malden, MO VORTAC and the Hallsville, MO VORTAC; between the Kirksville, MO, VORTAC and the Des Moines, IA, VORTAC; and between the Redwood Falls, MN, VOR/DME and the Alexandria, MN, VOR/DME.

V-250: V-250 extends between the O'Neill, NE, VORTAC and the Mankato, MN, VOR/DME. This action removes the airway segment from the Yankton, SD, VOR/DME and the Mankato, MN, VOR/DME. The resulting airway extends between the O'Neill, NE, VORTAC and the Yankton, SD, VOR/DME.

T-400: T-400 is a new RNAV route that extends between the LLUKY, NE, waypoint (WP), located near the O'Neill, NE, VORTAC and the ZOSAG, MN, WP, which is a new WP created for this action, near the Flying Cloud, MN, VOR/DME.

All of the navigational aid radials in the airway descriptions below are stated in True degrees.

FAA Order JO 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action amending VOR Federal airways V-170, V-175, and V-250, and establishing RNAV T-route T-400, in the vicinity of Worthington, MN, due to the planned decommissioning of the VOR portion of the Worthington, MN, VOR/DME navigational aid, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 6010(a) Domestic VOR Federal airways.

* * * * *

V-170 [Amended]

From Devils Lake, ND; INT Devils Lake 187° and Jamestown, ND, 337° radials; Jamestown; Aberdeen, SD; to Sioux Falls, SD. From Rochester, MN; Nodine, MN; Dells, WI; INT Dells 097° and Badger, WI, 304° radials; Badger; INT Badger 121° and Pullman, MI, 282° radials; Pullman; to Salem, MI. From Slate Run, PA; Selinsgrove, PA; Ravine, PA; INT Ravine 125° and Modena, PA, 318° radials; Modena; Dupont, DE; INT Dupont 223° and Andrews, MD, 060° radials; to INT Andrews 060° and Baltimore, MD, 165° radials. The airspace within R-5802 is excluded when active.

* * * * *

V-175 [Amended]

From Malden, MO; Vichy, MO; Hallsville, MO. From Kirksville, MO; to Des Moines, IA. From Redwood Falls, MN; to Alexandria, MN.

* * * * *

V-250 [Amended]

From O'Neill, NE; to Yankton, SD.

* * * * *

Paragraph 6011 United States Area Navigation Routes.

* * * * *

T-400 LLUKY, NE to ZOSAG, MN [New]

LLUKY, NE WP

(Lat. 42°29′20.26″ N, long. 098°38′11.44″ W)

IMUPP, SD WP

(Lat. 42°55′06.44″ N, long. 097°23′05.22″ W)

DURWN, MN WP

(Lat. 43°38′48.91″ N, long. 095°34′55.87″ W)

MEMCO, MN WP

(Lat. 44°13′11.42″ N, long. 093°54′45.23″ W)

ZOSAG, MN WP

(Lat. 44°49′30.74″ N, long. 093°26′34.08″ W)

Issued in Washington, DC, on January 6, 2022.
Michael R. Beckles,
Acting Manager, Rules and Regulations Group.

[FR Doc. 2022-00457 Filed 1-13-22; 8:45 am]

BILLING CODE 4910-13-P